POSTAL SERVICE

39 CFR Part 111

New Marking Requirement for Bound Printed Matter Machinable Parcels

AGENCY: Postal Service.

ACTION: Final rule.

SUMMARY: This final rule adopts a new marking requirement for Bound Printed Matter (BPM) machinable parcels consisting of multiple pieces secured with transparent shrinkwrap. The new marking will enable our automated equipment to recognize that these BPM machinable parcels are intended for a single address. Under the new standards, mailers must use a firm optional endorsement line or apply a pressure-sensitive firm Label F. The new standards do not apply to BPM flats or irregular parcels.

DATES: Effective Date: July 6, 2006.

FOR FURTHER INFORMATION CONTACT: Joel Walker, 202-268-7266.

SUPPLEMENTARY INFORMATION:

Background

The Postal Service published a proposal in the Federal Register on December 27, 2005 (70 FR 76435), to require a firm optional endorsement line or a pressure-sensitive firm Label F on Bound Printed Matter machinable parcels consisting of multiple pieces secured with transparent shrinkwrap.

Summary of Comments

We received two comments on the proposal, both from commercial mailers. Neither mailer opposed our proposal.

One mailer suggested we clarify that the new marking requirement does not apply to all Bound Printed Matter (BPM) parcels. The new firm optional endorsement line (OEL) or pressure-sensitive label F requirement applies only to BPM machinable parcels consisting of multiple pieces secured with transparent shrinkwrap. A BPM parcel prepared with a cardboard box, for example, does not require a firm OEL or Label F.

The other mailer recommended the requirement include Standard Mail machinable parcels consisting of multiple pieces secured with transparent shrinkwrap. We believe the volume of Standard Mail parcels with these characteristics is so low that it does not warrant a new marking requirement. Therefore, we will not extend the change to Standard Mail.

We also received an informal request about the proposal via e-mail. The request asked whether the new standards will allow, as an option, the use of the firm OEL on a BPM parcel consisting of a single phone book enclosed in transparent shrinkwrap. While not required, mailers may use a firm OEL on BPM parcels consisting of a single piece, since in some cases the OEL can assist with the automated processing of single pieces in transparent shrinkwrap.

Several customers have asked us if they may label according to the new standards immediately. The effective date of these changes is July 6, 2006, but mailers are encouraged to comply as soon as possible.

Summary of Changes

When a BPM machinable parcel consists of multiple pieces for a single address secured with transparent shrinkwrap, mailers must label the parcel using one of the following options:

• A firm optional endorsement line, followed by the 5-digit destination ZIP Code of the parcel.

• A blue, pressure-sensitive, barcoded Label F on the address side of the parcel.

We provide the new standards, and how they are applied for Bound Printed Matter, below.

We adopt the following amendments to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

400 Discount Mail Parcels

* * * * *

402 Elements on the Face of a Mailpiece

* * * * *

2.0 PLACEMENT AND CONTENT OF MARKINGS

* * * * *

2.2 Parcel Post, Bound Printed Matter, Media Mail, and Library Mail Markings

* * * * *

[Renumber 2.2.5 and 2.2.6 as 2.2.6 and 2.2.7. Add new 2.2.5, as follows:]

2.2.5 Address and Firm Designation on Bound Printed Matter Machinable Parcels

When a Bound Printed Matter machinable parcel consists of multiple pieces for a single address secured with transparent shrinkwrap, the delivery address information and barcoded pressure-sensitive Label F or firm optional endorsement line must be visible and readable by the naked eye. Mailers must label the parcel using one of the following options:

a. A firm optional endorsement line under 708.7.0, followed by the 5-digit destination ZIP Code of the parcel.

b. A blue, pressure-sensitive, barcoded Label F on the address side of the parcel.

* * * * *

700 Special Standards

* * * * *

708 Technical Specifications

* * * * *

7.0 OPTIONAL ENDORSEMENT LINES (OELs)

* * * * *

7.1 OEL Use

* * * * *

Exhibit 7.1.1 OEL Formats

[Revise Exhibit 7.1.1 by adding an OEL example for BPM parcels, as follows:]

Sortation level | OEL Example
Firm—BPM machinable parcels | ******** Firm 12345.

* * * * *

Neva R. Watson,
Attorney, Legislative.

[FR Doc. 06-2454 Filed 3-14-06; 8:45 am]

BILLING CODE 7710-12-P